DEPARTMENT OF COMMERCE

National Oceanic and Atmospheric Administration

[I.D. 050406B]

Endangered and Threatened Species; Take of Anadromous Fish

AGENCY: National Marine Fisheries Service (NOAA Fisheries), National Oceanic and Atmospheric Administration (NOAA), Commerce.

ACTION: Receipt of applications for renewal; modification of scientific research/enhancement permit (1093); request for comment.

SUMMARY: Notice is hereby given that NMFS has received applications to renew and modify permits from U. S. Geological Survey, Arcata, CA (Permit 1093). This permit would affect Southern Oregon/Northern California Coast (SONCC) coho salmon (Oncorhynchus kisutch), Central California Coast (CCC) coho salmon, Northern California (NC) steelhead (O. mykiss), and California Coastal (CC) Chinook salmon (O. tshawytscha). This document serves to notify the public of the availability of the permit application for review and comment before a final approval or disapproval is made by NMFS.

DATES: Written comments on the permit application must be received at the appropriate address or fax number (see ADDRESSES) no later than 5 p.m. Daylight Savings Time on June 14, 2006.

ADDRESSES: Written comments on any of these renewal and modification request should be sent to the appropriate office as indicated below. Comments may also be sent via fax to the number indicated for the request. Comments will not be accepted if submitted via e-mail or the internet. The applications and related documents are available for review in the indicated office, by appointment: For Permit 1093: Steve Liebhardt, Protected Species Division, NOAA Fisheries, 1655 Heindon Road, Arcata, CA 95521 (ph: 707-825-5186, fax: 707-825-4840).

FOR FURTHER INFORMATION CONTACT: Steve Liebhardt at phone number (707B825B5186), or e-mail: steve.liebhardt@noaa.gov.

SUPPLEMENTARY INFORMATION:

Authority

Issuance of permits and permit modifications, as required by the Endangered Species Act of 1973 (16 U.S.C. 1531B1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following four threatened salmonid ESUs: Southern Oregon/Northern California Coast (SONCC) coho salmon (Oncorhynchus kisutch), Central California Coast (CCC) coho salmon, Northern California (NC) steelhead (O. mykiss), and California Coastal (CC) Chinook salmon (O. tshawytscha).

Renewal and Requests Received

Permit 1093

The U.S. Geological Survey (USGS) has requested the renewal and modification 2 of Permit 1093 for take of SONCC coho salmon, CCC coho salmon, NC steelhead, and CC Chinook salmon, associated with five studies. The USGS proposes to capture juvenile salmon and steelhead by electrofishing. Permit 1068 was originally issued on April 1, 1998. That permit expired on June 30, 2003. NMFS placed the USGS on the California Department of Fish and Game (CDFG) 4d list for scientific research to cover the USGS for anticipated take of listed salmonids. However, because CCC coho salmon are listed as endangered and because the USGS would conduct research on CCC coho salmon, they could not be covered for take of CCC coho salmon under the 4d list. Therefore, NMFS is renewing and modifying Permit 1093 for a second time to cover anticipated take of CCC coho salmon. USGS has requested lethal take of up to: 1,900 juvenile SONCC coho salmon, 300 juvenile CCC coho salmon, 3,050 juvenile NC steelhead, and 1,200 juvenile CC Chinook salmon. The five studies would involve using listed salmonids caught by electrofishing to continue research on the demographics of coho salmon, investigate the influence of non-native fish species on food webs, develop protocols for measuring a biological response to watershed restoration, and investigate the response of steelhead to fire in coastal watersheds.

Renewal and Modification 2 of Permit 1093 will expire on January 1, 2011.

The USGS has requested renewal and modification 2 of Permit 1093 for take of SONCC coho salmon, CCC coho salmon, NC steelhead, and CC Chinook salmon associated with studies to continue research on the demographics of coho salmon, investigate the influence of non-native fish species on food webs, develop protocols for measuring a biological response to watershed restoration, and investigate the response of steelhead to fire in coastal watersheds. Proposed capture methods are by electrofishing. NMFS placed the USGS on the California Department of Fish and Game (CDFG) 4d list for scientific research to cover the USGS for anticipated take of listed salmonids on December 28, 2005. The USGS has requested non-lethal take of up to 1,900 juvenile SONCC coho salmon, 300 juvenile CCC coho salmon, 3,050 juvenile NC steelhead, and 1,200 juvenile CC Chinook salmon. Renewal and Modification of Permit 1093 will expire January 1, 2011.

Dated: May 9, 2006.
Angela Somma,
Chief, Endangered Species Division, Office of Protected Resources, National Marine Fisheries Service.

[FR Doc. E6-7363 Filed 5-12-06; 8:45 am]

BILLING CODE 3510-22-S